DEPARTMENT OF COMMERCE

National Oceanic and Atmospheric Administration

50 CFR Part 622

[Docket No. 140501394-5279-02]

RIN 0648-XD869

Fisheries of the Caribbean, Gulf of Mexico, and South Atlantic; 2015 Commercial Accountability Measure and Closure for Blueline Tilefish in the South Atlantic Region

AGENCY: National Marine Fisheries Service (NMFS), National Oceanic and Atmospheric Administration (NOAA), Commerce.

ACTION: Temporary rule; closure.

SUMMARY: NMFS implements accountability measures (AMs) for commercial blueline tilefish in the exclusive economic zone (EEZ) of the South Atlantic. Commercial landings for blueline tilefish, as estimated by the Science and Research Director, have reached the commercial annual catch limit (ACL). Therefore, NMFS is closing the commercial sector for blueline tilefish in the South Atlantic EEZ at 12:01 a.m., local time, April 7, 2015, and it will remain closed until the start of the next fishing season, January 1, 2016. This closure is necessary to protect the blueline tilefish resource.

DATES: This rule is effective 12:01 a.m., local time, April 7, 2015, until 12:01 a.m., local time, January 1, 2016.

FOR FURTHER INFORMATION CONTACT: Britni LaVine, NMFS Southeast Region, telephone: 727-824-5305, email: britni.lavine@noaa.gov.

SUPPLEMENTARY INFORMATION: The snapper-grouper fishery of the South Atlantic includes blueline tilefish and is managed under the Fishery Management Plan for the Snapper-Grouper Fishery of the South Atlantic Region (FMP). The South Atlantic Fishery Management Council and NMFS prepared the FMP, and the FMP is implemented under the authority of the Magnuson-Stevens Fishery Conservation and Management Act (Magnuson-Stevens Act) by regulations at 50 CFR part 622.

NMFS implemented management measures in Amendment 32 to the FMP for the Snapper-Grouper Fishery of the South Atlantic Region (Amendment 32). The final rule published in the Federal Register, and was effective, on March 30, 2015 (80 FR 16583). Amendment 32 contains management measures that end overfishing of blueline tilefish in the South Atlantic.

NMFS is required to close the commercial sector for blueline tilefish when the commercial ACL is reached, or is projected to be reached, by filing a notification to that effect with the Office of the Federal Register, as specified in 50 CFR 622.193(z)(1)(i). The commercial ACL for blueline tilefish is 17,841 lb (8,093 kg), round weight. NMFS has determined that the commercial ACL for South Atlantic blueline tilefish has been reached. Accordingly, the commercial sector for South Atlantic blueline tilefish is closed effective April 7, 2015, until 12:01 a.m., local time, January 1, 2016.

The operator of a vessel with a valid commercial vessel permit for South Atlantic snapper-grouper having blueline tilefish onboard must have landed and bartered, traded, or sold such blueline tilefish prior to April 7, 2015. During the closure, all sale or purchase of blueline tilefish is prohibited and harvest or possession of blueline tilefish in or from the South Atlantic EEZ is limited to the bag and possession limits specified in 50 CFR 622.187(b)(2)(iv) and 622.187(c)(1), respectively. These bag and possession limits apply in the South Atlantic on board a vessel for which a valid Federal commercial or charter vessel/headboat permit for South Atlantic snapper-grouper has been issued, without regard to where such species were harvested, i.e., in state or Federal waters.

Note that the recreational sector for blueline tilefish opened on January 1 and closed March 30, 2015, when the final rule for Amendment 32 became effective, because Amendment 32 implemented a seasonal closure for the recreational sector for blueline tilefish that extends from September 1 through April 30. Currently, the recreational sector for blueline tilefish is scheduled to reopen on May 1, 2015, and stay open through August 31, 2015, if the recreational ACL has not been met.

Classification

The Regional Administrator, Southeast Region, NMFS, has determined this temporary rule is necessary for the conservation and management of blueline tilefish and the South Atlantic snapper-grouper fishery and is consistent with the Magnuson-Stevens Act and other applicable laws.

This action is taken under 50 CFR 622.193(z)(1)(i) and is exempt from review under Executive Order 12866.

These measures are exempt from the procedures of the Regulatory Flexibility Act because the temporary rule is issued without opportunity for prior notice and comment.

This action responds to the best scientific information available. The Assistant Administrator for Fisheries, NOAA (AA), finds that the need to immediately implement this action to close the commercial sector for blueline tilefish constitutes good cause to waive the requirements to provide prior notice and opportunity for public comment pursuant to the authority set forth in 5 U.S.C. 553(b)(B), as such prior notice and opportunity for public comment are unnecessary and contrary to the public interest. Such procedures are unnecessary because the regulations at 50 CFR 622.193(z)(1)(i) have already been subject to notice and comment, and all that remains is to notify the public of the closure. Such procedures are contrary to the public interest because there is a need to immediately implement this action to protect blueline tilefish, since the capacity of the fishing fleet allows for rapid harvest of the commercial ACL. Prior notice and opportunity for public comment would require time and would potentially result in a harvest well in excess of the established commercial ACL.

For the aforementioned reasons, the AA also finds good cause to waive the 30-day delay in the effectiveness of this action under 5 U.S.C. 553(d)(3).

Authority: 16 U.S.C. 1801 et seq.

Emily H. Menashes,
Acting Director, Office of Sustainable Fisheries, National Marine Fisheries Service.

[FR Doc. 2015-07946 Filed 4-2-15; 4:15 pm]

BILLING CODE CODE 3510-22-P